DEPARTMENT OF THE INTERIOR

Fish and Wildlife Service

[FWS-R9-MB-2011-N113; 91100-3740-GRNT 7C]

Meeting Announcement; North American Wetlands Conservation Council

AGENCY: Fish and Wildlife Service, Interior.

ACTION: Notice of meeting.

SUMMARY: The North American Wetlands Conservation Council (Council) will meet to select North American Wetlands Conservation Act (NAWCA) grant proposals for recommendation to the Migratory Bird Conservation Commission (Commission). This meeting is open to the public, and interested persons may present oral or written statements.

DATES: Council Meeting: July 6, 2011, 8:30 a.m. to 4 p.m. If you are interested in presenting information at this public meeting, contact the Council Coordinator no later than June 22, 2011.

ADDRESSES: The Council meeting will be held at The Snow King Hotel, 400 E. Snow King Ave, Jackson Hole, WY 83001.

FOR FURTHER INFORMATION CONTACT: Michael J. Johnson, Council Coordinator, by phone at (703) 358-1784; by e-mail at dbhc@fws.gov; or by U.S. mail at U.S. Fish and Wildlife Service, 4401 N. Fairfax Drive, Mail Stop MBSP 4075, Arlington, VA 22203.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA/Standard/US/Overview.shtm.

Proposals require a minimum of 50 percent non-Federal matching funds. The Council will consider U.S. standard grant proposals at the meeting. The Commission will consider the Council's recommendation at its meeting tentatively scheduled for September 14, 2011.

If you are interested in presenting information at this public meeting, contact the Council Coordinator no later than the date under DATES.

Dated: May 24, 2011.
Matt Hogan,
Acting Assistant Director, Migratory Birds.

[FR Doc. 2011-13551 Filed 5-31-11; 8:45 am]

BILLING CODE 4310-55-P